DEPARTMENT OF HEALTH AND HUMAN SERVICES

Administration for Children and Families

Submission for OMB Review; Social Services Block Grant (SSBG) Post-Expenditure Report, Pre-Expenditure Report, and Intended Use Plan (OMB #0970-0234)

AGENCY: Office of Community Services, Administration for Children and Families, HHS.

ACTION: Request for Public Comment.

SUMMARY: The Administration for Children and Families (ACF) is requesting a revision to the Social Services Block Grant (SSBG) Post-Expenditure Report, Pre-Expenditure Report, and Intended Use Plan (OMB #0970-0234, previously titled, “Social Services Block Grant (SSBG) Post-Expenditure Report”). ACF is proposing to expand the information collection to include the collection of states' Intended Use Plans and retitle the information collection to clarify the role of the Pre-Expenditure Report.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function.

SUPPLEMENTARY INFORMATION: Description: On an annual basis, states and territories are required to submit the following reports: (1) An Intended Use Plan that provides data and narrative descriptions related to the state's SSBG program. The Intended Use Plan includes details about the delivery of SSBG services, and the state agency administering the SBG Program. ACF is proposing to expand the currently approved information collection to include collection of states' Intended Use Plans. Grantees are required to submit their Pre-Expenditure Report no less than 30 days prior to the start of the period covered by the report. (2) A Pre-Expenditure Report that demonstrates the state's anticipated allocation of SSBG funding among the 29 pre-defined SSBG service categories. Historically, states have submitted this report using the Post-Expenditure Report Form, and the associated burden is included in the currently approved information collection. Grantees are required to submit their Intended Use Plan no less than 30 days prior to the start of the period covered by the report. (3) A Post-Expenditure Report that details the state's actual use of SSBG funding among each of the 29 service categories. Grantees are required to submit their Post-Expenditure Report within 6 months of the end of the period covered by the report.

Respondents: Agencies that administer the SSBG at the state or territory level, including the 50 states; District of Columbia; Puerto Rico; and the territories of American Samoa, Guam, the Virgin Islands, and the Commonwealth of Northern Mariana Islands.

Annual Burden Estimates: This request is specific to the Intended Use Plan. Currently approved materials and associated burden can be found at: https://www.reginfo.gov/public/do/PRAViewICR?ref_nbr=202011-0970-006.

Instrument | Annual number of respondents | Annual number of responses per respondent | Average burden hours per response | Total/annual burden hours
Intended Use Plan | 56 | 1 | 40 | 2,240.

Estimated Total Annual Burden Hours: 2,240.

Authority: 42 U.S.C. 1397 through 1397e.

Mary B. Jones,
ACF/OPRE Certifying Officer.

[FR Doc. 2021-05408 Filed 3-15-21; 8:45 am]

BILLING CODE 4184-24-P